DEPARTMENT OF THE INTERIOR

National Park Service

[NPS-WASO-NRNHL-23424; PPWOCRADI0, PCU00RP14.R50000]

National Register of Historic Places; Notification of Pending Nominations and Related Actions

AGENCY: National Park Service, Interior.

ACTION: Notice.

SUMMARY: The National Park Service is soliciting comments on the significance of properties nominated before May 13, 2017, for listing or related actions in the National Register of Historic Places.

DATES: Comments should be submitted by June 22, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before May 13, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Maricopa County

Hilgeman, Franklin, House (North Central Phoenix Farmhouses and Rural Estate Homes, 1895-1959), 333 W. Loma Ln., Phoenix, MP100001229

Pima County

Craig, George C., House (Single Family Residential Architecture of Josias Joesler and John and Helen Murphey MPS), 5005 N. Calle La Vela, Tucson, MP100001230

Drexel House (Single Family Residential Architecture of Josias Joesler and John and Helen Murphey MPS), 5535 N. Camino Real, Tucson, MP100001231

ARKANSAS

Union County

Barton Library, 200 E. 5th St., El Dorado, SG100001232

Henley—Riley Historic District, 2523 & 2525 Calion Rd., El Dorado, SG100001235

Rumph Mortuary, 312 W. Oak, El Dorado, SG100001237

DISTRICT OF COLUMBIA

District of Columbia

Perna Brothers' Chesapeake Street Houses (Tenleytown in Washington, DC: 1770-1941, MPS), 4112-4118 Chesapeake St. NW., Washington, MP100001234

INDIANA

Marshall County

Plymouth Downtown Historic District (Boundary Increase), 110, 112, 116, 120 Washington, 101 Michigan & the blk. bounded by Garro, Water, LaPorte & Michigan Sts., Plymouth, BC100001236

MAINE

Cumberland County

Whittier Field Athletic Complex, Roughly bounded by Harpswell Rd., Bowker & Pine Sts., Brunswick, SG100001238

Oxford County

Brick School, 3 E. Main St., Paris, SG100001241

Waldo County

Keen Hall, 1 Main St., Freedom, SG100001242

NEW JERSEY

Somerset County

Hamilton Farm Stable Complex, 1040 Pottersville Rd., Bedminster Township, SG100001243

NEW YORK

Chemung County

Miller Block and Townhouse, 226 S. Main & 204-206 W. Henry Sts., Elmira, SG100001244

Orange County

Cash—Draper House, 59 Wickham Ave., Middletown, SG100001245

Rest Haven, 236 High St., Monroe, SG100001246

Tompkins County

Biggs Memorial Hospital Cottage, 402 Harris B. Dates Dr., Ithaca vicinity, SG100001248

Warren County

Heintzelman Library, 6615 NY 8, Brant Lake, SG100001249

TEXAS

Bexar County

Selma Stagecoach Stop and Post Office, 9374 Valhalla, Selma, SG100001252

Fort Bend County

Imperial Sugar Company Refinery Historic District, 198 Kempner St., Sugar Land, SG100001253

Harris County

Houston Bar Center Building, 723 Main St., Houston, SG100001254

WISCONSIN

Dane County

Heidelberger, Dr. Charles and Judith, House, 118 Vaughn Ct., Madison, SG100001255

A request for removal has been made for the following resource(s):

MAINE

Kennebec County

Beck, Klir, House, W of Mt. Vernon off ME 41, Mt. Vernon vicinity, OT77000067

A request to move has been received for the following resource(s):

MAINE

Kennebec County

Starling Grange #156 (former), 2769 Main St. (ME 17), Fayette, MV16000136

Nominations submitted by Federal Preservation Officers:

The State Historic Preservation Officer reviewed the following nominations and responded to the Federal Preservation Officer within 45 days of receipt of the nominations and supports listing the properties in the National Register of Historic Places.

PENNSYLVANIA

Allegheny County

Experimental and Safety Research Coal Mines, W. side of Cochran Mill Rd. 2 mi. S. of Bruceton, South Park Township, SG100001250

Mine Roof Simulator, NIOSH, Bruceton Research Center, W. side of Cochran Hill Rd., South Park Township, SG100001251

Authority: 60.13 of 36 CFR part 60

J. Paul Loether,
Chief, National Register of Historic Places/National Historic Landmarks Program.

[FR Doc. 2017-11734 Filed 6-6-17; 8:45 am]

BILLING CODE 4312-52-P